DEPARTMENT OF ENERGY

Federal Energy Regulatory Commission

[Project No. 15004-000; Project No. 3820-000]

New Hampshire Renewable Resources, LLC; Notice of Intent To File License Application, Filing of Pre-Application Document, and Approving Use of the Traditional Licensing Process

a. Type of Filing: Notice of Intent to File License Application and Request to Use the Traditional Licensing Process.

b. Project No.: 15004-000.

c. Date Filed: July 25, 2019.

d. Submitted By: New Hampshire Renewable Resources, LLC (New Hampshire Renewable).

e. Name of Project: Somersworth Hydroelectric Project.

f. Location: On the Salmon Falls River in Strafford County, New Hampshire and York County, Maine. No federal lands are occupied by the project works or located within the project boundary.

g. Filed Pursuant to: 18 CFR 5.3 and 5.5 of the Commission's regulations.

h. Potential Applicant Contact: Ian Clark, Managing Member, New Hampshire Renewable Resources, LLC, 65 Ellen Ave., Mahopac, NY 10541; Phone at 914-297-7645, or email at ianc@dichotomycapital.com.

i. FERC Contact: John Baummer at (202) 502-6837; or john.baummer@ferc.gov.

j. The current license for the Somersworth Hydroelectric Project is held by Aclara Meters, LLC (Aclara) under Project No. 3820. On March 29, 2019, Aclara filed an application to surrender its license for the project after having previously filed, pursuant to 18 CFR 16.6, a notice of intent (NOI) to file an application to relicense the project. On April 26, 2019, the Commission, pursuant to 18 CFR 16.25(a), issued a notice soliciting potential new applicants for the project, which provided until July 25, 2019 for potential applicants to submit a pre-application document (PAD) and NOI, and until January 25, 2021 to submit a license application. In response to the solicitation notice, New Hampshire Renewable filed an NOI and PAD for the Somersworth Hydroelectric Project, pursuant to 18 CFR 5.5 and 5.6 of the Commission's regulations. The licensing proceeding is commencing under Project No. 15004.

k. New Hampshire Renewable filed its request to use the Traditional Licensing Process (TLP) on July 25, 2019, and provided public notice of the request to use the TLP on July 20, 2019. In a letter dated September 20, 2019, the Director of the Division of Hydropower Licensing approved New Hampshire Renewable's request to use the TLP.

l. With this notice, we are initiating informal consultation with the U.S. Fish and Wildlife Service and NOAA Fisheries under section 7 of the Endangered Species Act and the joint agency regulations thereunder at 50 CFR part 402 and implementing regulations at 50 CFR 600.920. We are also initiating consultation with the New Hampshire and Maine State Historic Preservation Officers, as required by section 106 of the National Historic Preservation Act, and the implementing regulations of the Advisory Council on Historic Preservation at 36 CFR 800.2.

m. With this notice, we are designating New Hampshire Renewable as the Commission's non-federal representative for carrying out informal consultation pursuant to section 7 of the Endangered Species Act; and consultation pursuant to section 106 of the National Historic Preservation Act.

n. New Hampshire Renewable filed a Pre-Application Document (PAD; including a proposed process plan and schedule) with the Commission pursuant to 18 CFR 5.6 of the Commission's regulations.

o. A copy of the PAD is available for review at the Commission in the Public Reference Room or may be viewed on the Commission's website (http://www.ferc.gov), using the “eLibrary” link. Enter the docket number P-15004 to access the document. For assistance, contact FERC Online Support at FERCOnlineSupport@ferc.gov, (866) 208-3676 (toll free), or (202) 502-8659 (TTY).

p. New Hampshire Renewable states its unequivocal intent to submit an application for a license for Project No. 15004-000. Pursuant to 18 CFR 16.8, 16.9, 16.10, and 16.25, an application for a new license must be filed with the Commission at least 18 months from the date of filing of the NOI, i.e., by January 25, 2021.

q. Register online at http://www.ferc.gov/docs-filing/esubscription.asp to be notified via email of new filings and issuances related to this or other pending projects. For assistance, contact FERC Online Support.

Dated: September 20, 2019.
Kimberly D. Bose,
Secretary.

[FR Doc. 2019-20913 Filed 9-25-19; 8:45 am]

BILLING CODE 6717-01-P